DEPARTMENT OF COMMERCE

National Oceanic and Atmospheric Administration

RIN 0648-XI31

Marine Mammals; File Nos. 715-1706 and 545-1761

AGENCY: National Marine Fisheries Service (NMFS), National Oceanic and Atmospheric Administration (NOAA), Commerce.

ACTION: Notice; receipt of applications for amendments.

SUMMARY: Notice is hereby given that Fred Sharpe, Ph.D., Alaska Whale Foundation, 4739 University Way NE, #1239, Seattle, Washington 98105 has requested an amendment to scientific research Permit No. 751-1706-00; and North Gulf Oceanic Society (Craig O. Matkin, Principal Investigator), 2030 Mary Allen Avenue, Homer, AK 99603 has requested an amendment to Permit No. 545-1761-00.

DATES: Written, telefaxed, or e-mail comments must be received on or before July 7, 2008.

ADDRESSES: The amendment requests and related documents are available for review upon written request or by appointment in the following office(s):

Permits, Conservation and Education Division, Office of Protected Resources, NMFS, 1315 East-West Highway, Room 13705, Silver Spring, MD 20910; phone (301)713-2289; fax (301)427-2521; and

Alaska Region, NMFS, P.O. Box 21668, Juneau, AK 99802-1668; phone (907)586-7221; fax (907)586-7249.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of e-mail comments the following document identifiers: File No. 716-1705 (Fred Sharpe) or File No. 545-1761 (North Gulf Oceanic Society).

FOR FURTHER INFORMATION CONTACT: Amy Sloan or Carrie Hubard, (301)713-2289.

SUPPLEMENTARY INFORMATION: The subject amendments to Permit No. 716-1705-00, issued on June 30, 2004, and Permit No. 545-1761-00 issued on September 16, 2005, are requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

Permit No. 716-1705-00 authorizes Dr. Sharpe to conduct research on the behavior, social structure, and foraging ecology of North Pacific humpback whales (Megaptera novaeangliae), including close approach for photo-identification and behavioral observation, takes by acoustic recordings and playbacks of conspecific sound, and takes by suction cup tagging with Crittercam/TDR dive tags. Dr. Sharpe is also permitted to conduct opportunistic photo-identification and behavioral observation of killer whales (Orcinus orca). Research occurs in the waters of southeastern Alaska including Chatham Strait, Dixon Entrance, Cross Sound, and Icy Strait and the waters of Washington state. The permit expires on June 30, 2009.

The permit holder requests authorization to use a novel filming technique, a mini-helicopter, during an opportunistic, limited time period in southeast Alaska during July and August 2008. The applicant indicates that the use of the mini-helicopter would provide information that could be used for: (1) predicting energetic models of lunge-feeding humpback whales; (2) discerning physical positioning to determine whether lunge-feeding whales maintain specialized positions; and (3) studying the functional morphology of engulfment feeding. Such information would complement the already permitted behavioral study of lunge-feeding humpback whales. Based on video documentation of the use of the mini-helicopter to film humpback whales in foreign waters, this technique is not expected to result in added harassment to the whales, and in fact, is expected to reduce potential harassment from boat approaches.

Permit No. 545-1761-00 authorizes the North Gulf Oceanic Society to conduct population studies on numerous cetacean species with a particular emphasis on killer whales. The research focuses on the study of: (1) mating and social systems and feeding behavior of killer whales; and (2) diving behavior, feeding, movement and contaminant loads of several cetacean species. Takes may occur by close approach for vessel surveys, photo-identification, behavioral observation, passive acoustic recording, tagging, biopsy sampling, export of parts, and incidental harassment. Research takes place in waters off Alaska, including Glacier Bay/Icy Strait, Sitka Sound, Prince William Sound, Kenai Fjords, Resurrection Bay, Eastern Aleutian chain, and Kodiak Island. The permit expires on September 15, 2010.

The permit holder requests authorization to use the same mini-helicopter, during an opportunistic, limited time period in Alaska during August/September 2008. The mini-helicopter would be used to measure total body length of killer whales in order to assess individual growth, make population size comparisons, and model the energetic requirements of killer whales. Data obtained from the mini-helicopter would allow researchers to obtain proportional measurements of blowhole-dorsal and full body length, which can be used to construct a regression to describe this relationship.

Concurrent with the publication of this notice in the Federal Register, NMFS is forwarding copies of this application to the Marine Mammal Commission and its Committee of Scientific Advisors.

Dated: June 2, 2008.
P. Michael Payne,
Chief, Permits, Conservation and Education Division, Office of Protected Resources, National Marine Fisheries Service.

[FR Doc. E8-12716 Filed 6-5-08; 8:45 am]

BILLING CODE 3510-22-S